DEPARTMENT OF ENERGY

Federal Energy Regulatory Commission

[Docket No. CP98-229-001]

Northern Natural Gas Company; Notice of Motion To Vacate

February 20, 2001.

On February 2, 2001, Northern Natural Gas Company (Northern), P.O. Box 3330, Omaha, Nebraska 68103-0330, filed in Docket No. CP98-229-001 a motion to vacate that portion of an order issued December 22, 1998, in Docket No. CP98-229-000 which permitted Northern to abandon by sale to K N Gas Gathering, Inc., (KNGG) its Liberal facilities in Texas County, Oklahoma, and Stevens and Seward County, Kansas, all as more fully set forth in the motion which is on file with the Commission and open to public inspection. The filing may be viewed at http://www.ferc.fed.us/online/rims.htm (call 202-208-2222 for assistance).

Northern states that the order, among other things, permitted it to abandon by sale to KNGG its Liberal facilities. It is stated that the related December 30, 1997 Asset Purchase Agreement, as amended, was assigned to ONEOK, Inc. (ONEOK), but that on June 26, 2000, ONEOK exercised its option to terminate that agreement. Therefore, Northern requests that the Commission vacate that portion of the December 22, 1998, order.

Questions regarding the details of this motion should be directed to Michele Winckowski, at (402)-398-7200.

Any person wishing to obtain legal status by becoming a party to the proceedings for this project should, on or before March 2, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Comments and protests may be filed electronically via the internet in lieu of paper. See, 18 CFR 385.2001(a)(1)(iii) and the instructions on the Commission's web site at http://www.ferc.fed.us/efi/doorbell.htm.

If the Commission decides to set the motion for a formal hearing before an Administrative Law Judge, the Commission will issue another notice describing that process. At the end of the Commission's review process, a final Commission order approving or denying a certificate will be issued.

David P. Boergers,
Secretary.

[FR Doc. 01-4581 Filed 2-23-01; 8:45 am]

BILLING CODE 6717-01-M